DEPARTMENT OF THE INTERIOR

Bureau of Indian Affairs

Klamath Tribes Liquor Control Ordinance Correction

AGENCY: Bureau of Indian Affairs, Interior.

ACTION: Notice; correction.

SUMMARY: The Bureau of Indian Affairs published a notice in the Federal Register of October 22, 2010, concerning the Liquor Control Ordinance of the Klamath Tribes. This correction removes incorrect references to an amended ordinance and corrects the effective date of the ordinance.

DATES: Effective Date: This ordinance is effective as of October 22, 2010.

FOR FURTHER INFORMATION CONTACT: Elizabeth Colliflower, Office of Tribal Services, 1849 C Street, NW., Mail Stop 4513-MIB, Washington, DC 20240; Telephone (202) 513-7640; Fax (202) 208-5113.

Corrections

In the notice FR Doc. 2010-26695, beginning on page 65373 in the issue of October 22, 2010, make the following corrections:

(1) On page 65373, in the third column, in the SUMMARY section, remove the words “the amendment to” from the first sentence. Also, remove the word “amendment” from the second and third sentences and add in its place “Ordinance.”

(2) On page 65373, in the third column, in the DATES section, change the effective date of the Ordinance from November 22, 2010 to October 22, 2010.

(3) On page 65374, in the first column, in the SUPPLEMENTARY INFORMATION section, remove the word “amended” in the third sentence of the first paragraph.

The corrected SUMMARY reads as follows:

SUMMARY: This notice publishes the Secretary's certification of the Klamath Tribes Liquor Control Ordinance. The first Ordinance was published in the Federal Register on November 11, 1953 (18 FR 7178 (1953). This Ordinance further regulates and controls the sale, possession and distribution of liquor within the tribal lands. The tribal lands are located in Indian country, and this Ordinance allows for possession of alcoholic beverages within their boundaries. This Ordinance will increase the ability of the tribal government to control liquor possession, sale, and use in the community.

The corrected first paragraph of the SUPPLEMENTARY INFORMATION section reads as follows:

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Klamath Tribes enacted this Liquor Control Ordinance by General Council Resolution #2010-004 on May 22, 2010. The purpose of this Ordinance is to govern the possession, sale, and distribution of alcohol within tribal lands of the Klamath Tribes.

Dated: November 22, 2010.
Larry Echo Hawk,
Assistant Secretary—Indian Affairs.

[FR Doc. 2010-30437 Filed 12-3-10; 8:45 am]

BILLING CODE 4310-4J-P